DEPARTMENT OF VETERANS AFFAIRS

Privacy Act of 1974

AGENCY: Department of Veterans Affairs (VA).

ACTION: Notice of new system of records.

SUMMARY: The Privacy Act of 1974, 5 U.S.C. 552(e)(4), requires that all agencies publish in the Federal Register a notice of the existence and character of their systems of records. Notice is hereby given that the Department of Veterans Affairs (VA) is establishing a new system of records entitled “Automated Safety Incident Surveillance and Tracking System-VA”, (99VA13).

DATES: Comments on the establishment of this new system of records must be received no later than November 24, 2006. If no public comment is received, the new system will become effective November 24, 2006.

ADDRESSES: Written comments concerning the proposed system of records may be submitted by mail or hand-delivery to Director, Office of Regulations Management (00REG1), Department of Veterans Affairs, 810 Vermont Avenue, NW., Washington, DC 20420; by fax to (202) 273-9026; or by e-mail to “VARegulations@mail.va.gov”. All relevant material received before November 24, 2006 will be considered. Comments will be available for public inspection at the above address in the Office of Regulation Policy and Management, Room 1063B, between the hours of 8 a.m. and 4:30 p.m., Monday through Friday (except holidays).

FOR FURTHER INFORMATION CONTACT: Veterans Health Administration (VHA) Privacy Officer, Department of Veterans Affairs, 810 Vermont Avenue, NW., Washington, DC 20420, telephone (727) 320-1839.

SUPPLEMENTARY INFORMATION:

I. Description of Proposed Systems of Records

The Automated Safety Incident Surveillance and Tracking System (ASISTS) is an information management system that serves as the backbone of VA's management of work-related injuries and illnesses. The national database provides support for disease reporting, surveillance, and intervention, and as an integrated system, brings together different professional groups in a single community of practice to manage the various aspects of occupational injuries and illnesses in an efficient fashion.

ASISTS allows VA to identify, characterize, and track adverse events involving and the progress of injured and ill current and former employees, trainees, contractors, subcontractors, volunteers, and other individuals working collaboratively with VA. It allows the affected individuals to file their initial report of injury or illness, supervisors to describe the setting of and events leading up to the injury or illness, and safety personnel to describe the results of their investigation. It supports electronic transmission of workers' compensation claims, causes of incidents, and other aspects of the cases to the Department of Labor through an electronic linkage with the Workers Compensation-Management Information System, which maintains the Department of Labor records, and provides these individuals with access to a copy of their filed information. These system functions are currently available through other approved systems of records, including the Employee Medical File System Records (Title 38)-VA (08VA05).

The database allows VA to collect data related to blood-borne pathogen exposure and other causes of injury and illness, in accordance with the recordkeeping requirements of the Occupational Safety and Health Act of 1970, Public Law 91-596 84 STAT. 1590. It enables VA to identify system-wide problems and opportunities for focused education, examine emerging causes and clusters of incidents, evaluate the effectiveness of health and safety programs, and support research in the area of occupational medicine.

The records and information in ASISTS may be used to examine or identify individual cases or file claims of work-related injuries and illnesses; to evaluate health and safety systems performance through statistical analysis; to track and evaluate services and medical care of injured or ill workers; to develop and manage the planning, distribution, and use of resources; and to identify clusters and outbreaks. The data may also be used by institutional members of an accident review board or an incident review board, a multidisciplinary group of health and safety professionals, as well as representatives from human resources, safety, occupational health, and infection control for the review of root causes of injuries. The data may also be used for audits, reviews, and investigations by staff of the facilities, the Regional Directors' Offices, VA Central Office, and the VA Office of Inspector General (OIG), and for quality assurance audits, reviews, and investigations.

The national database located at the Austin Automation Center in Austin, Texas, will provide data to support new safety initiatives to reduce incidents, work-related injuries and illnesses, and workers' compensation claims.

II. Proposed Routine Use Disclosures of Data in the System

VA is proposing to establish the following routine use disclosures of information that will be maintained in the system:

1. VA may disclose on its own initiative any information in this system, except the names and addresses of veterans and their dependents, that is relevant to a suspected or reasonably imminent violation of law, whether civil, criminal, or regulatory in nature and whether arising by general or program statute or by regulation, rule, or order issued pursuant thereto, to a Federal, State, local, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, rule, or order.

VA must be able to disclose information within its possession on its own initiative that pertains to a violation of law to the appropriate authorities in order for them to investigate and enforce those laws. VA may disclose the names and home addresses of veterans and their dependents only to Federal entities with law enforcement responsibilities under 38 U.S.C. 5701(a) and (f). Accordingly, VA has so limited this routine use.

2. VA may disclose information to a Congressional office from the record of an individual in response to an inquiry from the Congressional office made on behalf of and at the request of that individual.

Individuals sometimes request the help of a Member of Congress in resolving some issue relating to a matter before VA. When the Member of Congress writes VA, VA must be able to provide sufficient information to be responsive to the inquiry.

3. VA may disclose information to the National Archives and Records Administration (NARA) in records management inspections conducted under authority of Title 44 of United States Code.

NARA is responsible for archiving old records no longer actively used but which may be appropriate for preservation and for the physical maintenance of the Federal government's records. VA must be able to turn records over to NARA in order to determine the proper disposition of such records.

4. VA may disclose information to the Department of Justice (DOJ), including United States Attorneys, or in a proceeding before a court, adjudicative body, or other administrative body when VA, its employees, or any of its components is a party to or has an interest in the litigation or the adjudicative or administrative process, or when the litigation or process is likely to affect VA, its employees, or any of its components, and the use of these records is deemed to be relevant and necessary to the litigation or process, provided that the disclosure is compatible with the purpose for which the records were collected.

When VA is involved in litigation or an adjudicative or administrative process, or occasionally when another party is involved in litigation or an adjudicative or administrative process, and VA policies or operations could be affected by the outcome of the litigation or process, VA must be able to disclose information to the court, the adjudicative or administrative body, or the parties involved. A determination would be made in each instance that, under the circumstances involved, the purpose served by use of the information in the particular litigation or process is compatible with the purpose for which VA collected the information.

5. VA may disclose information for program review purposes and the seeking of accreditation and/or certification to survey teams of the Joint Commission on Accreditation of Healthcare Organizations (JCAHO), College of American Pathologists, American Association of Blood Banks, and similar national accreditation agencies or boards with which VA has a contract or agreement to conduct such reviews, but only to the extent that the information is necessary and relevant to the review.

VA health care facilities undergo certification and accreditation by several national accreditation agencies or boards to comply with regulations and good medical practices. VA must be able to disclose information for program review purposes and the seeking of accreditation and/or certification of health care facilities and programs.

6. VA may disclose information to officials of the Merit Systems Protection Board (MSPB) and the Office of Special Counsel when requested in connection with appeals, special studies of the civil service and other merit systems, review of rules and regulations, investigation of alleged or possible prohibited personnel practices, and such other functions, promulgated in 5 U.S.C. 1205 and 1206, or as may be authorized by law.

VA must be able to disclose information to the MSPB to assist it in fulfilling its responsibilities regarding Federal employees.

7. VA may disclose information to the Equal Employment Opportunity Commission (EEOC) when requested in connection with investigations of alleged or possible discrimination practices, examination of Federal affirmative employment programs, compliance with the Uniform Guidelines of Employee Selection Procedures, or other functions vested in the Commission by the President's Reorganization Plan No. 1 of 1978.

VA must be able to disclose information to the EEOC to assist it in fulfilling its responsibilities to protect employee rights.

8. VA may disclose information to the Federal Labor Relations Authority (FLRA), including its General Counsel, when requested in connection with the investigation and resolution of allegations of unfair labor practices or the resolution of exceptions to arbitrator awards when a question of material fact is raised, in matters before the Federal Service Impasses Panel, and to investigate representation petitions and conduct or supervise representation elections.

VA must be able to disclose information to the FLRA to comply with the statutory mandate under which FLRA operates.

9. VA may disclose information to individuals, organizations, private or public agencies, or other entities with which VA has a contract or agreement, or where there is a subcontract to perform such services as VA may deem practicable for the purposes of laws administered by VA, in order for the contractor or subcontractor to perform the services of the contract or agreement.

VA must be able to provide information to contractors or subcontractors with which VA has a contract or agreement in order to perform the services of the contract or agreement. In these situations, safeguards are provided in the contract prohibiting the contractor or subcontractor from using or disclosing the information for any purpose other than that described in the contract.

10. VA may disclose information to labor unions operating at the facility level as members of institutional review boards [accident review boards] to review root causes of injuries.

VA must be able to use and disclose the information to allow the facility and labor unions to review and provide corrective measures for injury prevention.

11. VA may disclose information to the Department of Labor for the electronic filing of workers compensation claims, as provided by 5 U.S.C. 8121.

VA must be able to provide information to the Department of Labor for workers compensation claims filed by injured VA employees through the Workers Compensation Management Information System and an Electronic Data Interface to the Department of Labor by entering information into the Automated Safety Incident Surveillance and Tracking System, into a designated form.

III. Compatibility of the Proposed Routine Uses

The Privacy Act permits VA to disclose information about individuals without their consent for a routine use when the information will be used for a purpose that is compatible with the purpose for which VA collected the information. In all of the routine use disclosures described above, either the recipient of the information will use the information in connection with a matter relating to one of VA's programs or to provide a benefit to VA, or disclosure is required by law.

The notice of intent to publish and an advance copy of the system notice have been sent to the appropriate Congressional committees and to the Director of the Office of Management and Budget (OMB) as required by the Privacy Act, 5 U.S.C. 552a(r), and guidelines issued by OMB, 65 FR 77677, December 12, 2000.

Approved: October 3, 2006.
Gordon H. Mansfield,
Deputy Secretary of Veterans Affairs.

99VA13

SYSTEM NAME: Automated Safety Incident Surveillance and Tracking System-VA

SYSTEM LOCATION:

Records are maintained at each Department of Veterans Affairs (VA) health care facility with back-up computer tape information being stored at off-site locations in most cases. Address locations for VA facilities are listed in VA Appendix 1 of the biennial publication of the VA system of records. In addition, records may be maintained at the Department of Veterans Affairs Central Office (VACO), 810 Vermont Avenue, NW., Washington, DC; VA Data Processing Centers; VA OI Field Offices; Veterans Integrated Service Network Offices; and Employee Education Systems.

CATEGORIES OF INDIVIDUALS COVERED BY THE SYSTEM:

The records include information concerning current and former employees, trainees, contractors, subcontractors, volunteers, and other individuals working collaboratively with VA.

CATEGORIES OF RECORDS IN THE SYSTEM:

The records may include:

1. Identifying information (e.g., name, date of birth, age, sex, social security number, taxpayer identification number);

2. Address information (e.g., home and/or mailing address, home telephone number, emergency contact information such as name, address, telephone number, and relationship);

3. Information on injuries and illnesses attributed to work (e.g., cause, severity, type of injury, body part affected, risk, and contributing factors);

4. Criteria necessary to meet the injury and illness reporting requirements for the Federal Accident Reporting System and its successors under the Occupational Safety and Health Act; and

5. Abstract information (e.g., environmental and epidemiological registries).

AUTHORITY FOR MAINTENANCE OF THE SYSTEM:

5 U.S.C. Chapters 11, 31, 33, 43, 61, 63, and 83; 38 U.S.C. § 501; 38 U.S.C. Chapter 74.

PURPOSE(S):

The records and information may be used to examine or identify individual cases or file claims of work-related injuries and illnesses; to evaluate health and safety systems performance through statistical analysis; to track and evaluate services and medical care of injured or ill workers; to develop and manage the planning, distribution, and utilization of resources; and to identify clusters and outbreaks. The data may also be used by institutional members of an accident review board or an incident review board, a multidisciplinary group of health and safety professionals, as well as representatives from human resources, safety, occupational health, and infection control for the review of root causes of injuries. The data may also be used for audits, reviews, and investigations by staff of the facilities, the Regional Directors' Offices, VA Central Office, and the VA Office of Inspector General (OIG), and for quality assurance audits, reviews, and investigations.

ROUTINE USES OF RECORDS MAINTAINED IN THE SYSTEM, INCLUDING CATEGORIES OF USERS AND THE PURPOSES OF SUCH USES:

1. VA may disclose on its own initiative any information in this system, except the names and addresses of veterans and their dependents, which is relevant to a suspected or reasonably imminent violation of law, whether civil, criminal, or regulatory in nature and whether arising by general or program statute or by regulation, rule, or order issued pursuant thereto, a Federal, State, local, or foreign agency charged with the responsibility of investigating or prosecuting such violation, or charged with enforcing or implementing the statute, regulation, rule, or order. VA may also disclose on its own initiative the names and addresses of veterans and their dependents to a Federal agency charged with the responsibility of investigating or prosecuting civil, criminal, or regulatory violations of law, or charged with enforcing or implementing the statute, regulation, rule, or order.

2. VA may disclose information to a Congressional office from the record of an individual in response to an inquiry from the Congressional office on behalf of and at the request of that individual.

3. VA may disclose information to the National Archives and Records Administration (NARA) in records management inspections conducted under authority of Title 44 of United States Code.

4. VA may disclose information to the Department of Justice (DOJ), including United States Attorneys, or in a proceeding before a court, adjudicative body, or other administrative body when VA, its employees, or any of its components is a party to or has an interest in the litigation or the adjudicative or administrative process, or when the litigation or process is likely to affect VA, its employees, or any of its components, and the use of these records is deemed to be relevant and necessary to the litigation or process, provided that the disclosure is compatible with the purpose for which the records were collected.

5. VA may disclose information for program review purposes and the seeking of accreditation and/or certification to survey teams of the Joint Commission on Accreditation of Healthcare Organizations (JCAHO), College of American Pathologists, American Association of Blood Banks, and similar national accreditation agencies or boards with which VA has a contract or agreement to conduct such reviews, but only to the extent that the information is necessary and relevant to the review.

6. VA may disclose information to officials of the Merit Systems Protection Board (MSPB) and the Office of Special Counsel when requested in connection with appeals, special studies of the civil service and other merit systems, review of rules and regulations, investigation of alleged or possible prohibited personnel practices, and such other functions promulgated in 5 U.S.C. §§ 1205 and 1206, or as may be authorized by law.

7. VA may disclose information to the Equal Employment Opportunity Commission (EEOC) when requested in connection with investigations of alleged or possible discrimination practices, examination of Federal affirmative employment programs, compliance with the Uniform Guidelines of Employee Selection Procedures, or other functions vested in the Commission by the President's Reorganization Plan No. 1 of 1978.

8. VA may disclose information to the Federal Labor Relations Authority (FLRA), including its General Counsel, when requested in connection with the investigation and resolution of allegations of unfair labor practices or the resolution of exceptions to arbitrator awards when a question of material fact is raised, in matters before the Federal Service Impasses Panel, and to investigate representation petitions and conduct or supervise representation elections.

9. VA may disclose information to individuals, organizations, private or public agencies, or other entities with which VA has a contract or agreement, or where there is a subcontract to perform such services as VA may deem practicable for the purposes of laws administered by VA, in order for the contractor or subcontractor to perform the services of the contract or agreement.

10. VA may disclose information to labor unions operating at the facility level as members of institutional review boards [accident review boards] to review root causes of injuries.

11. VA may disclose information to the Department of Labor for the electronic filing of workers compensation claims, as provided by 5 U.S.C. 8121.

POLICIES AND PRACTICES FOR STORING, RETRIEVING, ACCESSING, RETAINING, AND DISPOSING OF RECORDS IN THE SYSTEM:

STORAGE:

Records are maintained electronically on magnetic tape, disk, or laser optical media with copies of back-up computer files maintained at off-site locations in most cases.

RETRIEVABILITY:

Records are retrieved by name, social security number, or other assigned identifiers of the individuals on whom they are maintained.

SAFEGUARDS:

1. Access to VA working and storage areas is restricted to VA personnel on a “need-to-know” basis; strict control measures are enforced to ensure that disclosure to these individuals is also based on this same principle. Generally, VA file areas are locked after normal duty hours, and the facilities are protected from outside access by the Federal Protective Service or other security personnel.

2. Access to computer rooms at health care facilities is generally limited by appropriate locking devices and restricted to authorized VA employees and vendor personnel. Automated Data Processing (ADP) peripheral devices are placed in secure areas, which are locked, with limited access, or are otherwise protected. Records may be accessed by authorized VA employees, and access is controlled at two levels; the systems recognize authorized users by series of individually unique passwords/codes as a part of each data message, and access is limited to only those who need the information in the performance of their official duties. Information downloaded from ASISTS and maintained on personal computers is afforded similar storage and access protections as data maintained in the original files. Access to information stored on automated storage media at other VA locations is controlled by individually unique passwords/codes.

RETENTION AND DISPOSAL:

The Master (National Database) and local files are cut-off at the end of the calendar year and destroyed or deleted 6 years after cut-off. The Office of Public Health and Environmental Hazards in VACO files are destroyed or deleted when no longer needed for administrative and operational purposes. Back-up files are deleted when the master file has been deleted or replaced by a subsequent back-up file.

SYSTEM MANAGER(S) AND ADDRESS:

Official responsible for policies and procedures: Office of Public Health and Environmental Hazards (13), Department of Veterans Affairs, 810 Vermont Avenue, NW., Washington, DC 20420. Officials maintaining the system: Director at the facility where the employee was associated.

NOTIFICATION PROCEDURE:

Individuals seeking information on the existence and content of a record pertaining to them should contact the VA facility location at which they are or were employed, or performed work. Inquiries should include the person's full name, social security number, dates of employment or work, and return address.

RECORD ACCESS PROCEDURE:

(See Notification Procedure above.)

CONTESTING RECORD PROCEDURES:

(See Notification Procedure above.)

RECORD SOURCE CATEGORIES:

Information in this system of records is provided by employees, trainees, contractors, subcontractors, volunteers, and other affected individuals; supervisors; health and safety professionals at facilities; clinical personnel; workers' compensation personnel; and human resources staff.

[FR Doc. E6-17756 Filed 10-23-06; 8:45 am]

BILLING CODE 8320-01-P